DEPARTMENT OF JUSTICE

Antitrust Division

Notice Pursuant to the National Cooperative Research and Production Act of 1993—Z-Wave Alliance, Inc.

Notice is hereby given that, on October 4, 2024, pursuant to section 6(a) of the National Cooperative Research and Production Act of 1993, 15 U.S.C. 4301 et seq. (the “Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances.

Specifically, Wesco International/General Lock, Pittsburgh, PA; Natur-IT Kft, Budapest, HUNGARY; DECH-X Aps, Roennede, DENMARK; Sercomm Corporation, Taipei City, TAIWAN; Gentex Corporation, Zeeland, MI; TechniSat Digital GmbH, Daun, GERMANY; Sustainable Architecture LLC, Westminster, CO; Protek Security Systems, Warwick, RI; Philio Technology Corporation, New Taipei City, TAIWAN; Joshua Gogo (Keyano College), Fort McMurray, CANADA; and EUROtronic Technology GmbH, Steinau, GERMANY have joined as parties to the venture.

Also, Golden Mark (HK) Limited, Tsim Sha Tsui, Kowloon, HONG KONG; Lexi Devices, Inc., Oslo, NORWAY; and ComfortClick d.o.o., Ljubljana, SLOVENIA have withdrawn as parties to the venture.

Also, the following each joined as parties to the venture on the corresponding date indicated, were inadvertently not included in the applicable notice filings, and have withdrawn as parties to the venture: Net Vision Communications, LLC, Singapore, SINGAPORE (7-14-2022); Solutions for IoT LLC, Mendham, NJ (1-1-2023); Exegin Technologies Limited, Port Coguitlam, CANADA (5-6-2023); and FPT Software, Hanoi City, VIETNAM (7-20-23).

No other changes have been made in either the membership or the planned activity of the venture. Membership in this venture remains open, and the Joint Venture intends to file additional written notifications disclosing all changes in membership.

On November 19, 2020, the Joint Venture filed its original notification pursuant to section 6(a) of the Act. The Department of Justice published a notice in the Federal Register pursuant to section 6(b) of the Act on December 1, 2020 (85 FR 77241).

The last notification was filed with the Department on July 15, 2024. A notice was published in the Federal Register pursuant to section 6(b) of the Act on October 11, 2024 (89 FR 82628).

Suzanne Morris,
Deputy Director Civil Enforcement Operations, Antitrust Division.

[FR Doc. 2024-28209 Filed 11-29-24; 8:45 am]

BILLING CODE 4410-11-P